DEPARTMENT OF COMMERCE

National Oceanic and Atmospheric Administration

[I.D. 101105F]

New England Fishery Management Council; Public Meeting

AGENCY: National Marine Fisheries Service (NMFS), National Oceanic and Atmospheric Administration (NOAA), Commerce.

ACTION: Notice; committee meeting.

SUMMARY: The New England Fishery Management Council's (Council) Groundfish Oversight Committee will meet to consider actions affecting New England fisheries in the exclusive economic zone (EEZ).

DATES: The meeting will be held on Wednesday, November 2, 2005, from 9 a.m. to 5 p.m.

ADDRESSES: The meeting will be held at the Holiday Inn, Peabody, MA 01960; telephone: (978) 535-4600.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. The Groundfish Oversight Committee will meet to continue development of Framework Adjustment 42 to the Northeast Multispecies Fishery Management Plan. The committee will consider changes to management measures that may be necessary in order to achieve the mortality targets of Amendment 13. Based on analyses presented to the Committee in October, additional measures may be needed to reduce mortality for several stocks, including Gulf of Maine cod, Georges Bank cod, Cape Cod/Gulf of Maine yellowtail flounder, Georges Bank yellowtail flounder, Southern New England/Mid-Atlantic yellowtail flounder, Georges Bank winter flounder, Southern New England/Mid-Atlantic winter flounder, and white hake.

2. The Committee may consider changes in days-at sea, gear, closed areas, changes to Special Access Programs(SAPS), or other measures for commercial vessels.

3. They may also consider changes in recreational measures, including bag limits, closed areas, minimum fish sizes, or closed seasons. They will consider extending and/or modifying, as necessary, the Category B (regular) days-at-sea (DAS) Pilot Program. Draft measures text for the framework will be reviewed and adjusted as necessary. The Committee may also discuss a standardized bycatch reporting methodology. A Recreational Advisory Panel report will be provided to assist the Committee's deliberations.

4. Other business may also be discussed. Committee recommendations will be forwarded to the Council at a future date.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Dated: October 12, 2005.
Emily Menashes,
Acting Director, Office of Sustainable Fisheries, National Marine Fisheries Service.

[FR Doc. E5-5702 Filed 10-14-05; 8:45 am]

BILLING CODE 3510-22-S